ENVIRONMENTAL PROTECTION AGENCY

[FRL-9950-79-Region 1]

Notice of Availability of Draft NPDES General Permits for Remediation Activity Discharges in Massachusetts and New Hampshire: The Remediation General Permit

AGENCY: Environmental Protection Agency (EPA).

ACTION: Notice of Availability of DRAFT NPDES General Permits MAG910000 and NHG910000.

SUMMARY: The Director of the Office of Ecosystem Protection, U.S. Environmental Protection Agency—Region 1 (EPA), is providing a notice of availability of draft National Pollutant Discharge Elimination System (NPDES) general permits for discharges from sites engaged in certain remediation activities to certain waters of the Commonwealth of Massachusetts and the State of New Hampshire. The draft NPDES general permits establish Notice of Intent (NOI), Notice of Change (NOC), and Notice of Termination (NOT) requirements, effluent limitations and requirements, standard and special conditions and best management practice (BMP) requirements for sites that discharge 1.0 million gallons per day or less in Massachusetts and New Hampshire. These general permits replace the Remediation General Permit (RGP) that expired on September 9, 2015.

DATES: Comment on the draft general permits must be received on or before September 19, 2016.

Public Hearing Information: EPA will hold a public hearing, if necessary, in accordance with 40 CFR 124.12 and will provide interested parties with the opportunity to provide written and/or oral comments for the official administrative record.

ADDRESSES: Comments on the draft RGP shall be submitted by one of the following methods: (1) Email: little.shauna@epa.gov; or (2) Mail: U.S. EPA Region 1, Attn: Shauna Little, 5 Post Office Square, Suite 100, Mail Code OEP06-4, Boston, MA 02109-3912. No facsimiles (faxes) will be accepted.

The draft RGP is based on an administrative record available for public review at EPA-Region 1, Office of Ecosystem Protection, 5 Post Office Square, Suite 100, Boston, Massachusetts 02109-3912. A reasonable fee may be charged for copying requests. The fact sheet for the draft RGP sets forth principal facts and the significant factual, legal, methodological and policy questions considered in the development of the draft general permit and is available upon request. A brief summary is provided as supplementary information below.

FOR FURTHER INFORMATION CONTACT: Additional information concerning the draft general permits may be obtained between the hours of 9 a.m. and 5 p.m. Monday through Friday, excluding holidays, from Shauna Little, U.S. EPA Region 1, 5 Post Office Square, Suite 100, Mail Code OEP06-4, Boston, MA 02109-3912.; telephone: 617-918-1989; email: little.shauna@epa.gov.

SUPPLEMENTARY INFORMATION: General Information: EPA is proposing to reissue two general permits for discharges from sites engaged in remediation activities from eight general categories: (1) Petroleum-related site remediation; (2) Non-petroleum-related site remediation; (3) Contaminated/formerly contaminated site dewatering; (4) Pipeline and tank dewatering; (5) Aquifer pump testing; (6) Well development/rehabilitation; (7) Dewatering/remediation of collection structures; and (8) Dredge-related dewatering. While the draft general permits are two distinct permits, for convenience, EPA has grouped them together in a single document and has provided a single fact sheet. This document refers to the draft general “permit” in the singular. The draft general permit, appendices and fact sheet are available at: http://www.epa.gov/region1/npdes/rgp.html. The draft general permit includes effluent limitations and requirements based on technology-based considerations, best professional judgment (BPJ), and water quality considerations. The effluent limits established in the draft general permit assure that the surface water quality standards of the receiving water(s) are attained and/or maintained. The permit also contains BMP requirements in order to ensure EPA has the information necessary to ensure compliance and to ensure discharges meet water quality standards.

Obtaining Authorization: In order to obtain authorization to discharge, operators must submit a complete and accurate NOI containing the information in Appendix IV—Part 1 of the draft general permit. Operators with existing discharges must submit a NOI within 90 days of the effective date of the final general permit. Operators with new discharges must submit a NOI at least 30 days prior to initiating discharges and following the effective date of the final general permit. The effective date of the final general permit will be specified in the Federal Register publication of the Notice of Availability of the final permit. Operators must meet the eligibility requirements of the general permit prior to submission of a NOI. An operator will be authorized to discharge under the general permit upon receipt of written notice from EPA following EPA's web posting of the submitted NOI. EPA will authorize the discharge, request additional information, or require the operator to apply for an alternative permit or an individual permit.

Other Legal Requirements: Endangered Species Act (ESA): EPA has updated the provisions and necessary actions and documentation related to potential impacts to endangered species from facilities seeking coverage under the RGP. EPA has requested concurrence from the appropriate federal services (U.S. Fish and Wildlife Service and National Marine Fisheries Service) in connection with this draft general permit.

National Historic Preservation Act (NHPA): In accordance with NHPA, EPA has established provisions and documentation requirements for sites seeking coverage under the RGP to ensure that discharges or actions taken under this general permit will not adversely affect historic properties and places.

Authority: This action is being taken under the Clean Water Act, 33 U.S.C. 1251 et seq.

Dated: August 9, 2016.
H. Curtis Spalding,
Regional Administrator.

[FR Doc. 2016-19541 Filed 8-17-16; 8:45 am]

BILLING CODE 6560-50-P